DEPARTMENT OF EDUCATION

Notice of Waivers; Comprehensive Centers Program

AGENCY: Office of Elementary and Secondary Education, Department of Education.

ACTION: Notice of waivers.

SUMMARY: The Secretary waives the requirements that generally prohibit project periods exceeding five years and project period extensions involving the obligation of additional Federal funds. These waivers enable the 22 current grantees under the Comprehensive Centers program to continue to receive Federal funding for up to an additional 24 months through September 30, 2019.

DATES: These waivers are effective April 12, 2017.

FOR FURTHER INFORMATION CONTACT: Britt Jung, U.S. Department of Education, 400 Maryland Avenue SW., Room 3E206, Washington, DC 20202-6400. Telephone: (202) 205-4513 or by email: britt.jung@ed.gov.

If you use a telecommunications device for the deaf or a text telephone, call the Federal Relay Service, toll free, at 1-800-877-8339.

SUPPLEMENTARY INFORMATION:

Background

Under the Comprehensive Centers program, the Department of Education (Department) supports grants to operate regional technical assistance centers and national content centers as authorized by sections 203 through 207 of the Educational Technical Assistance Act of 2002 (ETAA) (20 U.S.C. 9602-9606). The purpose of these centers is to provide technical assistance to States as States work to help local educational agencies (LEAs) and schools close achievement gaps in core content areas and raise student achievement in schools.

Eligible applicants for Comprehensive Center grants are research organizations, institutions, agencies, institutions of higher education, partnerships among these types of entities, or individuals with the demonstrated ability or capacity to carry out the activities described in the notice inviting applications published in the Federal Register on June 6, 2012 (77 FR 33564) (2012 NIA) and corrected on August 15, 2012 (77 FR 48974). In FY 2012, the Department made five-year awards to 22 Comprehensive Centers. The project period for these Comprehensive Centers is currently scheduled to end on September 30, 2017.

On January 9, 2017, the Department published a notice in the Federal Register (82 FR 2335) (January 2017 notice) proposing waivers of the requirements in 34 CFR 75.250(a) and 34 CFR 75.261(c)(2) (proposed waivers). Respectively, these provisions generally prohibit project periods exceeding five years and project period extensions involving the obligation of additional Federal funds. Waiving these provisions will enable the Secretary to provide additional funds to the 22 Comprehensive Center grantees for up to 24 months, from October 1, 2017, through September 30, 2019. The January 2017 notice also invited public comment on the proposed waivers.

Public Comment

No parties submitted comments regarding the proposed waivers. There are no differences between the proposed and the final waivers.

Final Waivers

In the January 2017 notice, we discussed the background and purposes of the Comprehensive Centers program and our reasons for proposing the waivers. As outlined in that notice, it would not be in the public interest to hold a new competition under the Comprehensive Centers program until after the Department has finalized its guidance on the Elementary and Secondary Education Act of 1965 (ESEA), as amended by the Every Student Succeeds Act (ESSA), and until all the new statutory requirements under the ESEA, as amended by the ESSA, have gone into effect. One of the primary purposes of the Comprehensive Centers program is to help States, LEAs, and schools implement key school improvement provisions of the ESEA. Delaying the competition until after the Department and States have begun to implement the new provisions under the ESEA, as amended by the ESSA, would allow applicants to familiarize themselves with the new statutory requirements and submit proposals that will best serve States under the new law. In addition, it would be contrary to the public interest to have a lapse in Comprehensive Centers' services pending the implementation of new provisions of the ESSA. Implementing these waivers will ensure that the important services provided by the current Comprehensive Centers can continue uninterrupted as States transition to the ESSA.

The Secretary waives the requirements in 34 CFR 75.250(a), which prohibit project periods exceeding five years, and the requirements in 34 CFR 75.261(c)(2), which limit the extension of a project period if the extension involves the obligation of additional Federal funds.

Under these waivers—

(1) Current grantees are authorized to receive continuation awards annually for up to two fiscal years.

(2) The Department will not announce a new competition or make new awards under the Comprehensive Centers program in FY 2017.

(3) During the extension period, any activities carried out must be consistent with, or be a logical extension of, the scope, goals, and objectives of the grantees' approved applications from the 2012 Comprehensive Centers competition.

(4) Each grantee that receives a continuation award must also continue to comply with the requirements established in the program regulations and the 2012 NIA (77 FR 33564).

The waivers of 34 CFR 75.250(a) and 75.261(c)(2) do not affect the applicability of the requirements in 34 CFR 75.253 (continuation of a multi-year project after the first budget period) to any current Comprehensive Centers grantee that receives a continuation award as a result of the waivers.

In addition, these waivers do not exempt current Comprehensive Centers grantees from the account-closing provisions in 31 U.S.C. 1552(a), nor do they extend the availability of funds previously awarded to current Comprehensive Centers grantees. Under 31 U.S.C. 1552(a), appropriated funds may be used for payment of valid obligations for only five years after the expiration of their period of availability for Federal obligation. After that time, the unexpended balance of those funds is canceled and returned to the U.S. Treasury Department and is unavailable for restoration for any purpose. These waivers do not change this requirement.

Regulatory Flexibility Act Certification

The Secretary certifies that these waivers will not have a significant economic impact on a substantial number of small entities. The small entities that will be affected are:

(a) The FY 2012 grantees currently receiving Federal funds; and

(b) The entities that are eligible for an award under the Comprehensive Centers program (i.e., eligible applicants as described in the 2012 NIA).

The Secretary certifies that the waivers will not have a significant economic impact on these entities because the waivers and the activities required to support the additional years of funding impose minimal compliance costs to extend projects already in existence, and the activities required to support the additional year of funding will not impose additional regulatory burdens or require unnecessary Federal supervision. The waivers will impose minimal requirements to ensure the proper expenditure of program funds, including requirements that are standard for continuation awards.

Paperwork Reduction Act of 1995

These waivers do not contain any information collection requirements.

Intergovernmental Review

This program is subject to Executive Order 12372 and the regulations in 34 CFR part 79. One of the objectives of the Executive order is to foster an intergovernmental partnership and a strengthened federalism. The Executive order relies on processes developed by State and local governments for coordination and review of Federal financial assistance. This document provides notification of our specific plans and actions for this program.

Accessible Format

Individuals with disabilities can obtain this document in an accessible format (e.g., braille, large print, audiotape, or compact disc) by contacting the program contact person listed in this notice.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 9602-9606.

Catalog of Federal Domestic Assistance (CFDA) Number: 84.283B.

Dated: March 8, 2017.
Monique M. Chism,
Acting Assistant Secretary for Elementary and Secondary Education.

[FR Doc. 2017-04906 Filed 3-10-17; 8:45 am]

BILLING CODE 4000-01-P